DEPARTMENT OF ENERGY

Federal Energy Regulatory Commission

[Docket No. RP96-383-024]

Dominion Transmission, Inc.; Notice of Negotiated Rate Filing

March 12, 2001.

Take notice that on March 9, 2001, Dominion Transmission, Inc. (DTI) tendered for filing to the Federal Energy Regulatory Commission (Commission) the following tariff sheet for disclosure of a recently negotiated transaction with Virginia Power Services Energy Corp., Inc.:

First Revised Sheet No. 1401

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-6801 Filed 3-19-01; 8:45 am]

BILLING CODE 6717-01-M